DEPARTMENT OF COMMERCE

[Docket No.: 140605479-4629-02]

Privacy Act New System of Records

AGENCY: Department of Commerce.

ACTION: Notice; Commerce/Department-1, Attendance, Leave, and Payroll Records of Employees and Certain Other Persons.

SUMMARY: The Department of Commerce (Commerce) publishes this notice to announce the effective date of a Privacy Act System of Records entitled Commerce/Department-1, Attendance, Leave, and Payroll Records of Employees and Certain Other Persons.

The notice of proposed amendment to this system of records was published in the Federal Register on June 27, 2014.

DATES: The system of records becomes effective on August 13, 2014.

ADDRESSES: For a copy of the system of records please mail requests to Dana Shields, National Oceanic and Atmospheric Administration, Room 5309, 1305 East-West Hwy, Silver Spring, MD 20910.

FOR FURTHER INFORMATION CONTACT: Dana Shields, National Oceanic and Atmospheric Administration, 301-713-0850.

SUPPLEMENTARY INFORMATION: On June 27, 2014, the Department of Commerce published and requested comments on a proposed Privacy Act System of Records entitled Commerce/Department-1, Attendance, Leave, and Payroll Records of Employees and Certain Other Persons (79 FR 124). No comments were received in response to the request for comments. By this notice, the Department is adopting the proposed system as final without changes effective August 13, 2014.

Dated: August 4, 2014.
Brenda Dolan,
Freedom of Information and Privacy Act Officer, U.S. Department of Commerce.

[FR Doc. 2014-19131 Filed 8-12-14; 8:45 am]

BILLING CODE 3510-12-P